DEPARTMENT OF DEFENSE

Department of the Army

U.S. Army Science Board Closed Meeting Notice

AGENCY: Department of the Army, DoD.

ACTION: Notice of a closed meeting.

SUMMARY: Pursuant to the Federal Advisory Committee Act, the Government in the Sunshine Act of 1976 (as amended) and title 41, Code of Federal Regulations 102-3.140 through 160, the Department of the Army announces the following committee meeting of the U.S. Army Science Board (ASB) Fall voting session.

Name of Committee: U.S. Army Science Board.

Date: Tuesday, 26 September 2023.

Time: 8:00 a.m.-12:00 p.m.

Location: The Crystal City Marriott at Regan National Airport, 1999 Richmond Highway, Arlington, Virginia 22202.

Purpose of Meeting: The purpose of the meeting is for ASB members to review, deliberate, and vote on the findings and recommendations presented for two Fiscal Year (FY) 2023 studies.

Agenda: Briefing, deliberation, and vote on the following studies:

“Testing, Validating, and Protecting Army use of Artificial Intelligence (AI) and Machine Learning (ML) Models.” This FY23 study contains Controlled Unclassified Information (CUI) and will be presented in a closed session at 08:45-10:00 a.m.

“Advanced Concepts to Support Army Warfighting Functions in the Indo-Pacific.” This FY23 study contains CUI and will be presented in a closed session at 10:15-11:30 a.m.

FOR FURTHER INFORMATION CONTACT: ASB, Designated Federal Officer (DFO), 2530 Crystal Drive, Suite 7098, Arlington, VA 22202; Ms. Heather J. Gerard, the ASB's Designated Federal Officer (DFO), at (406) 926-9090 or email: heather.j.gerard.civ@army.mil, and Mr. Vince L. Bullard, the ASB's Alternate DFO at (571) 215-1408 or email: vinson.l.bullard.civ@army.mil.

Public's Accessibility to the Meeting: The Department of the Army has determined that the study titled “Testing, Validating, and Protecting Army use of Artificial Intelligence (AI) and Machine Learning (ML) Models” contains CUI and is thus closed to the public in accordance with 5 U.S.C. 552b(c) (4), which permits Federal advisory committee meetings to be closed which are likely to “disclose trade secrets and commercial or financial information obtained from a person and privileged or confidential.”

The Department of the Army has determined that the study titled “Advanced Concepts to Support Army Warfighting Functions in Indo-Pacific.” contains CUI and is thus closed to the public in accordance with 5 U.S.C. 552b(c) (9), which permits Federal advisory committee meetings to be closed which are likely to “likely to disclose information the premature disclosure of which would-(B) in the case of any agency, be likely to significantly frustrate implementation of a proposed agency action.”

SUPPLEMENTARY INFORMATION: (Filing Written Statement): Due to circumstances beyond the control of the Designated Federal Officer, the U.S. Army Science Board was unable to provide public notification required by 41 CFR 102-3.150(a) concerning its September 26, 2023, meeting. Accordingly, the Advisory Committee Management Officer for the Department of Defense, pursuant to 41 CFR 102-3.150(b), waives the 15-calendar day notification requirement.

Pursuant to 41 CFR 102-3.140c, interested persons may submit a written statement for consideration by the ASB. Individuals submitting a written statement must submit their statement to the DFO at the address listed above. Written statements not received at least 10 calendar days prior to the meeting may not be considered by the ASB prior to its scheduled meeting.

The DFO will review all timely submissions and ensure they are provided to the ASB members. The DFO, in consultation with the ASB chair, may choose to invite the submitter of the comments to orally present their issue during a future open meeting.

The DFO may allot a specific amount of time for members of the public to present their issues for discussion.

James W. Satterwhite Jr.,
Army Federal Register Liaison Officer

[FR Doc. 2023-20747 Filed 9-22-23; 8:45 am]

BILLING CODE 3711-02-P